DEPARTMENT OF AGRICULTURE

Food and Nutrition Service

Agency Information Collection Activities: Supplemental Nutrition Assistance Program (SNAP), State Law Enforcement Bureau (SLEB) Fraud Investigations

AGENCY: Food and Nutrition Service (FNS), USDA.

ACTION: Notice.

SUMMARY: In accordance with the Paperwork Reduction Act of 1995, this notice invites the general public and other public agencies to comment on this proposed information collection. This collection is a new collection for SNAP, SLEB Fraud Investigations.

DATES: Written comments must be received on or before August 23, 2016.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology. Comments may be sent to: Daniel Wilusz, Food and Nutrition Service, U.S. Department of Agriculture, 3101 Park Center Drive, Room 422, Alexandria, VA 22302. Comments may also be submitted via fax to the attention of Daniel Wilusz at 703-305-1863 or via email to Daniel.wilusz@fns.usda.gov. Comments will also be accepted through the Federal eRulemaking Portal. Go to http://www.regulations.gov, and follow the online instructions for submitting comments electronically.

All responses to this notice will be summarized and included in the request for Office of Management and Budget (OMB) approval. All comments will be a matter of public record.

FOR FURTHER INFORMATION CONTACT: Requests for additional information or copies of this information collection should be directed to Leysha López Recci at 703-605-0253.

SUPPLEMENTARY INFORMATION: Title: Supplemental Nutrition Assistance Program (SNAP), State Law Enforcement Bureau (SLEB) Fraud Investigations.

Form Number: Not Yet Assigned.

OMB Number: 0584-NEW.

Expiration Date: Not Yet Determined.

Type of Request: New collection.

Abstract: The Food and Nutrition Service (FNS) of the U.S. Department of Agriculture is the Federal agency responsible for the Supplemental Nutrition Assistance Program (SNAP), (7 U.S.C. 2011-2036), which offers nutrition assistance to millions of eligible, low-income individuals and families and provides economic benefits to communities. FNS works with State partners to establish State Law Enforcement Bureau (SLEB) agreements to improve program administration and ensure program integrity. Through SLEB agreements, FNS authorizes State agencies to conduct investigations into possible SNAP fraud, and to obtain Electronic Benefits Transfer (EBT) benefits for such law enforcement and investigative activities. This form gathers data associated with SLEB investigations using SNAP EBT benefits and the expenses for investigative activities.

Affected Public: State government agencies that have a SLEB agreement with FNS.

Estimated Number of Respondents: The total estimated number of respondents is 53. This includes all States, the District of Columbia, and U.S. Territories that administer SNAP.

Estimated Number of Responses per Respondent: The respondents will be asked to complete this form 2 times per year.

Estimated Total Annual Responses: 106.

Estimated Time per Response: The time required to complete this information collection is estimated to average 2 hours per response, including the time to review instructions, search existing data resources, gather the data needed, complete and review the information collection.

Estimated Total Annual Burden on Respondents: 212 hours (12,720 minutes).

Respondent | Estimated number of respondents | Responses annually per respondent | Total annual responses | Estimated average number of hours per response | Estimated total hours
Reporting Burden
State government agencies that have a SLEB agreement with FNS | 53 | 2.00 | 106.00 | 2.00 | 212.00

Dated: June 13, 2016.
Yvette S. Jackson,
Acting Administrator, Food and Nutrition Service.

[FR Doc. 2016-14991 Filed 6-23-16; 8:45 am]

BILLING CODE 3410-30-P